COMMISSION ON CIVIL RIGHTS

Corrections: Notice of Public Meeting of the Maryland Advisory Committee

AGENCY: U.S. Commission on Civil Rights.

ACTION: Correction: Mode of meeting will now be by teleconference instead of on location.

SUMMARY: The Commission on Civil Rights published a document Wednesday, March 11, 2020, announcing an upcoming Maryland Advisory Committee meeting. The document contained meeting at a venue but will now meet by teleconference.

FOR FURTHER INFORMATION CONTACT: Barbara de La Viez, DFO, at bdelaviez@usccr.gov or 202-376-7533.

Correction: In the Federal Register of Wednesday, March 11, 2020, in FR Doc. 2020-04923, on page 14185 in the first column, delete “Ascend One Government Building, BelAir Room, 8930 Stanford Blvd., Columbia, MD 21045, in the narrative of the first paragraph and in the “LOCATION.” The meeting will not be held in person at a venue but by teleconference using the following numbers: 1-800-353-6461; ID: 2790767.

Correction: In Column 1 also replace SUPPLEMENTARY INFORMATION with the following SUPPLEMENTARY INFORMATION: Interested members of the public may listen to the discussion by calling the following toll-free conference call-in number: 1-800-367-2403 and conference ID: 3030243. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free conference call-in number.

Persons with hearing impairments may also follow the discussion by first calling the Federal Relay Service at 1-800-877-8339 and providing the operator with the toll-free conference call-in number: 1-800-367-2403 and conference ID: 3030243.

Dated: March 16, 2020.
David Mussatt,
Supervisory Chief, Regional Programs Unit.

[FR Doc. 2020-05801 Filed 3-19-20; 8:45 am]

BILLING CODE P